FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AGS Cargo USA, Inc (NVO), 3640 NW 115th Avenue, Doral, FL 33178, Officers: Nathalie Diaz, Secretary, (Qualifying Individual), Alexandre Gulla Da Silva, President, Application Type: New NVO License.

Albarq Shipping Services Inc. (NVO), 8151 Electric Avenue, Stanton, CA 90680, Officers: Denise E. Scott, President, (Qualifying Individual), Khalid Elbarq, Vice President, Application Type: New NVO License.

Always Affordable Shipping LLC (NVO), 16 Angela Circle, Hazlet, NJ 07730, Officer: Christopher L. Loux, Member, (Qualifying Individual), Application Type: New NVO License.

Ameripack Services, Inc. (NVO & OFF), 4696 NW 74 Avenue, Miami, FL 33166, Officers: Willians J. Herrera, President, (Qualifying Individual), Leopoldo Herrera, Vice President, Application Type: Add OFF Service & QI Change.

Brian Hsu dba The Filipino Cargo International (NVO), 1273 Industrial Parkway West, #420, Hayward, CA 94544, Officer: Brian Hsu, Sole Proprietor, (Qualifying Individual), Application Type: New NVO License.

Brookfield Relocation Inc. (OFF), Two Corporate Drive, Suite 440, Shelton, CT 06484, Officers: Thomas W. Weimer, Assistant Vice President, (Qualifying Individual), Richard Schwartz, Director, Application Type: New OFF License.

Brox Logistics USA, LLC (NVO,) 244 5th Avenue, V-280, New York, NY 10001, Officers: Vladimir Eremin, Managing Member, (Qualifying Individual), Application Type: New NVO License.

C&F Worldwide Agency Corporation(NVO), Cerretera 848 KM 3.2, Saint Just, Carolina, PR 00983, Officers: Jose E. Del Cueto Gonzalez, President, (Qualifying Individual), Thomas D. Torcomian, General Manager, Application Type: Transfer of License to LEL Caribe, LLC, dba C&F Worldwide Agency Corporation, dba C&F Worldwide Logistics.

Cargois Inc. dba Star Vision Logis (NVO), 2700 Coyle Avenue, Elk Grove Village, IL 60007, Officers: Souck-Sin Lee, Treasurer, (Qualifying Individual), Jong H. Kwon, President, Application Type: Change Trade Name to SV Logis Inc & Add OFF Service.

Chemlogix Global LLC dba Vistalogix Global (NVO & OFF), 1777 Sentry Parkway West, Abington Hall 300, Blue Bell, PA 19422, Officers: Marc A. Lombardi, Vice President, (Qualifying Individual), John S. Hamilton, Chairman, Application Type: QI Change.

CMA CGM Logistics USA LLC (NVO & OFF), 1 Meadowlands Plaza, Suite 201, East Rutherford, NJ 07073, Officers: Simon Preisler, General Manager, (Qualifying Individual),

Frank J. Baragona, Director, Application Type: QI Change. Frank Obeng dba First Class Exporters (OFF), 1147 Wilingham, East Point, GA 30344, Officer: Frank Obeng, Sole Proprietor, (Qualifying Individual), Application Type: New OFF License.

Logistics International Parcel Shipping Transport LLC (NVO), 182 West Melrose Avenue, #2, South Elgin, IL 60177, Officers: Marilou Pedres, Operation Manager, (Qualifying Individual), Jroel G. Pedres, President, Application Type: New NVO License.

Movage, Inc. (NVO), 135 Lincoln Avenue, Bronx, NY 10454, Officers: Traveler Schinz-Devico, Vice President, (Qualifying Individual), Bajo Vujovic, President, Application Type: Add Trade Name of Movage International.

Platinum Cargo Logistics Inc. (NVO & OFF), 1520 Commerce Drive, Elgin, IL 60123, Officers: Andrew R. Mancione, Vice President, (Qualifying Individual), Kelli Spiri, President, Application Type: QI Change.

Sincere Shipping LLC (OFF), 85 Brown Pelican Drive, Savannah, GA 31419, Officer: Megan Leggett, Member, (Qualifying Individual), Application Type: New OFF License.

The Relocation Freight Corporation of America (OFF), Two Corporation Drive, Suite 440, Shelton, CT 06484, Officers: Thomas W. Weimer, Assistant Vice President, (Qualifying Individual), Earl Lee, President, Application Type: New OFF License.

Trans Atlantic Logistics Inc (OFF), 87-02 168th Place, Jamaica, NY 11432, Officer: Khalid Mahmud, President, (Qualifying Individual), Application Type: New OFF License.

Transportation Management Inc. (NVO & OFF), 13111 Atlantic Blvd., #1, Jacksonville, FL 32225, Officers: Mitchell D. Swanson, Vice President, (Qualifying Individual), Larry Berry, President, Application Type: New NVO & OFF License.

Warehouse Division of World Terminal and Distributing Corporation dba WTDC (NVO & OFF), 2801 NW. 74 Avenue, #100, Miami, FL 33122, Officer: Ralph Gazitua, President, (Qualifying Individual), Application Type: New NVO & OFF License.

By the Commission.
Dated: July 20, 2012.
Karen V. Gregory,
Secretary.

[FR Doc. 2012-18177 Filed 7-24-12; 8:45 am]

BILLING CODE 6730-01-P